DEPARTMENT OF COMMERCE

National Oceanic and Atmospheric Administration

[RTID 0648-XA847]

Endangered and Threatened Species; Take of Anadromous Fish

AGENCY: National Marine Fisheries Service (NMFS), National Oceanic and Atmospheric Administration (NOAA), Commerce.

ACTION: Notice; availability of draft Environmental Assessment for public comment.

SUMMARY: Notice is hereby given that a draft Environmental Assessment (EA) is available for public comment on a summer steelhead hatchery program and trap and haul program in the Skykomish River Basin, Washington. A Hatchery and Genetics Management Plan (HGMP) was submitted to NMFS for review and determination under the Endangered Species Act (ESA) 4(d) Rule. The trap and haul program would be permitted under section 10 of the ESA.

DATES: Comments must be received at the appropriate address (see ADDRESSES) no later than 5 p.m. Pacific time on March 8, 2021. Comments received after this date may not be considered.

ADDRESSES: Written responses should be addressed to the NMFS Sustainable Fisheries Division, 1201 NE Lloyd Blvd., Portland, OR 97232. Comments may be submitted by email. The mailbox address for providing email comments is: Hatcheries.Public.Comment@noaa.gov. Include in the subject line of the email comment the following identifier: Comments on the EA for the Skykomish River summer steelhead hatchery and/or Sunset Falls trap and haul program. The documents are available on the internet at https://www.fisheries.noaa.gov/action/skykomish-summer-steelhead-hatchery-program-and-sunset-falls-trap-and-haul-program.

FOR FURTHER INFORMATION CONTACT: Emi Melton at (503) 736-4739 or by email at emi.melton@noaa.gov.

SUPPLEMENTARY INFORMATION:

ESA-Listed Species Covered in This Notice

• Puget Sound Chinook Salmon (Oncorhynchus tshawytscha): Threatened, naturally and artificially propagated

• Puget Sound Steelhead (Oncorhynchus mykiss): Threatened, naturally and artificially propagated

Background

The Tulalip Tribes and Washington Department of Fish and Wildlife (collectively the co-managers) have submitted an HGMP to NMFS pursuant to limit six of the ESA 4(d) Rule for a summer steelhead hatchery program in the Skykomish River Basin, Washington.

The hatchery program is intended to contribute to fulfilling federal tribal trust responsibilities and treaty rights guaranteed through treaties and affirmed in U.S. v. Washington (1974). It is also designed to contribute to the survival and recovery of Puget Sound steelhead and produce summer steelhead for sustainable fisheries.

The Washington Department of Fish and Wildlife also submitted an ESA section 10(a)(1)(A) permit application for operation of a trap and haul program in the Skykomish River Basin. This program collects various species of salmon, steelhead, and trout from the fish ladder at Sunset Falls and transports the fish upstream for release into high quality habitat above the falls.

Authority

16 U.S.C. 1531 et seq.; 16 U.S.C. 742a et seq.; Section 222.303 also issued under 16 U.S.C. 1361 et seq.

Dated: February 1, 2021.
Angela Somma,
Chief, Endangered Species Division, Office of Protected Resources, National Marine Fisheries Service.

[FR Doc. 2021-02380 Filed 2-4-21; 8:45 am]

BILLING CODE 3510-22-P